DEPARTMENT OF COMMERCE

International Trade Administration

[A-570-028]

Hydrofluorocarbon Blends From the People's Republic of China: Final Results of Antidumping Duty Administrative Review; 2022-2023

AGENCY: Enforcement and Compliance, International Trade Administration, Department of Commerce.

SUMMARY: The U.S. Department of Commerce (Commerce) determines that no companies under review qualify for a separate rate. Therefore, these companies are considered to be part of the People's Republic of China (China)-wide entity during the period of review (POR) August 1, 2022, through July 31, 2023.

DATES: Applicable September 20, 2024.

FOR FURTHER INFORMATION CONTACT: Whitley Herndon, AD/CVD Operations, Office IX, Enforcement and Compliance, International Trade Administration, U.S. Department of Commerce, 1401 Constitution Avenue NW, Washington, DC 20230; telephone: (202) 482-6274.

SUPPLEMENTARY INFORMATION:

Background

On May 9, 2024, Commerce published in the Federal Register the Preliminary Results of the 2022-2023 administrative review of the antidumping duty on hydrofluorocarbon (HFC) blends from China.¹ We invited interested parties to comment on the Preliminary Results; ² however, no interested party submitted comments. Accordingly, the final results remain unchanged from the Preliminary Results, and thus there is no decision memorandum accompanying this notice. Commerce conducted this administrative review in accordance with section 751 of the Tariff Act of 1930, as amended (the Act).

¹ See Hydrofluorocarbon Blends from the People's Republic of China: Preliminary Results and Partial Recission of Antidumping Duty Administrative Review; 2022-2023, 89 FR 39582 (May 9, 2024) (Preliminary Results), and accompanying Preliminary Decision Memorandum (PDM).

² Id., 89 FR at 39583.

Scope of the Order ³

³ See Hydrofluorocarbon Blends from the People's Republic of China: Antidumping Duty Order, 81 FR 55436 (August 19, 2016) (Order).

The products covered by the Order are HFC blends from China.⁴

⁴ For a complete description of the scope of the Order, see Preliminary Results PDM at 3-4.

China-Wide Entity

In accordance with Commerce's policy, the China-wide entity will not be reviewed unless a party specifically requests, or Commerce self-initiates, a review of the entity.⁵ Because no party requested a review of the China-wide entity, the entity is not under review and the entity's rate of 216.37 percent is not subject to change.⁶

⁵ See Antidumping Proceedings: Announcement of Change in Department Practice for Respondent Selection in Antidumping Duty Proceedings and Conditional Review of the Nonmarket Economy Entity in NME Antidumping Duty Proceedings, 78 FR 65963 (November 4, 2013).

⁶ See Order, 81 FR at 55438.

Final Results of Review

In the Preliminary Results, Commerce determined that, because none of the companies under review with suspended entries in the U.S. Customs and Border Protection (CBP) data submitted a separate rate application or certification, none of these companies had established eligibility for a separate rate. We received no comments with respect to our preliminary finding. Therefore, for these final results, we continue to determine that companies in the appendix to this notice are part of the China-wide entity, and thus, subject to the China-wide entity rate.

Disclosure

Normally, Commerce will disclose to the parties in a proceeding the calculations performed in connection with the final results within five days of any public announcement or, if there is no public announcement, within five days of the date of publication of the notice of final results in the Federal Register, in accordance with 19 CFR 351.224(b). However, because Commerce determined that each of the companies listed in the appendix is part of the China-wide entity, there are no calculations to disclose.

Assessment Rates

Commerce shall determine, and CBP shall assess, antidumping duties on all appropriate entries in accordance with section 751(a)(2)(C) of the Act and 19 CFR 351.212(b). Commerce will instruct CBP to apply an ad valorem assessment rate of 216.37 percent to all entries of subject merchandise during the POR which were exported by the companies considered to be a part of the China-wide entity listed in the Appendix to this notice.

Commerce intends to issue assessment instructions to CBP no earlier than 35 days after the date of publication of these final results of review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review, as provided by section 751(a)(2)(C) of the Act: (1) for previously investigated or reviewed Chinese and non-Chinese exporters for which a review was not requested and that received a separate rate in a prior segment of this proceeding, the cash deposit rate will continue to be the existing exporter-specific rate published for the most recently-completed period; (2) for all Chinese exporters of subject merchandise that have not been found to be entitled to a separate rate, the cash deposit rate will be the rate for the China-wide entity (i.e., 216.37 percent); and (3) for all non-Chinese exporters of subject merchandise that have not received their own rate, the cash deposit rate will be the rate applicable to the Chinese exporter that supplied that non-Chinese exporter. These deposit requirements, when imposed, shall remain in effect until further notice.

Notification to Importers

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

We are issuing and publishing this notice in accordance with sections 751(a)(1) and 777(i)(1) of the Act, and 19 CFR 351.221(b)(5).

Dated: September 13, 2024.
Ryan Majerus,
Deputy Assistant Secretary for Policy and Negotiations, performing the non-exclusive functions and duties of the Assistant Secretary for Enforcement and Compliance.

Appendix

Companies Under Review Determined To Be Part of the China-Wide Entity

1. Changzhou Vista Chemical Co., Ltd.

2. Daikin Fluorochemicals (China) Co., Ltd.

3. Dongyang Weihua Refrigerants Co., Ltd.

4. Hanzhou Icetop Refrigeration Co., Ltd.

5. Jiangsu Sanmei Chemicals Co., Ltd.

6. Oasis Chemical Co., Limited

7. Puremann, Inc.

8. Sinochem Environmental Protection Chemicals (Taicang) Co., Ltd.

9. Superfy Industrial Limited

10. Tianjin Synergy Gases Products, Co., Ltd

11. Weitron International Refrigeration Equipment (Kunshan) Co., Ltd.

12. Weitron International Refrigeration Equipment Co., Ltd.

13. Yangfar Industry Co., Ltd.

14. Zhejiang Lantian Environmental Protection Fluoro Material Co. Ltd.

15. Zhejiang Quzhou Lianzhou Refrigerants Co., Ltd.

16. Zhejiang Zhonglan Refrigeration Technology Co., Ltd.

[FR Doc. 2024-21521 Filed 9-19-24; 8:45 am]

BILLING CODE 3510-DS-P